DEPARTMENT OF THE INTERIOR

National Park Service

[NPS-WASO-NAGPRA-NPS0026171; PPWOCRADN0-PCU00RP14.R50000]

Notice of Inventory Completion: The American Museum of Natural History, New York, NY

AGENCY: National Park Service, Interior.

ACTION: Notice.

SUMMARY: The American Museum of Natural History has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the American Museum of Natural History. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the American Museum of Natural History at the address in this notice by October 10, 2018.

ADDRESSES: Nell Murphy, Director of Cultural Resources, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the completion of an inventory of human remains and associated funerary objects under the control of the American Museum of Natural History, New York, NY. The human remains and associated funerary objects were removed from unknown locales in Georgia and Tennessee; Ballard and Bell Counties, KY; and Hickman, Knox, Roane, and Williamson Counties, TN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the American Museum of Natural History professional staff in consultation with representatives of the Cherokee Nation; Eastern Band of Cherokee Indians; Shawnee Tribe; The Chickasaw Nation; The Muscogee (Creek) Nation; and the United Keetoowah Band of Cherokee Indians in Oklahoma.

The Absentee-Shawnee Tribe of Indians of Oklahoma; Alabama-Coushatta Tribe of Texas (previously listed as the Alabama-Coushatta Tribes of Texas); Alabama-Quassarte Tribal Town; Coushatta Tribe of Louisiana; Eastern Shawnee Tribe of Oklahoma; Kialegee Tribal Town; Poarch Band of Creeks (previously listed as the Poarch Band of Creek Indians of Alabama); Seminole Tribe of Florida (previously listed as the Seminole Tribe of Florida (Dania, Big Cypress, Brighton, Hollywood & Tampa Reservations)); The Seminole Nation of Oklahoma; and Thlopthlocco Tribal Town were invited to consult but chose not to participate. Hereafter, all tribes listed in this section are referred to as “The Consulted and Notified Tribes.”

History and Description of the Remains

In an unknown year, human remains representing, at minimum, one individual were removed from a mound in Georgia by E.G. Squier. In 1875, the American Museum of Natural History purchased the human remains. No known individual was identified. The one associated funerary object is a copper disc.

The land in the state of Georgia from which the Native American human remains were removed is the aboriginal land of the Alabama-Coushatta Tribe of Texas (previously listed as the Alabama-Coushatta Tribes of Texas); Alabama-Quassarte Tribal Town; Cherokee Nation; Coushatta Tribe of Louisiana; Eastern Band of Cherokee Indians; Kialegee Tribal Town; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the United Keetoowah Band of Cherokee Indians in Oklahoma.

In an unknown year, human remains representing, at minimum, one individual were removed from Wickliffe Mounds, Ballard County, KY, by Col. Fain White-King or Blanche Busey King. In 1947, Lawrence Parker gifted these remains to the American Museum of Natural History. No known individual was identified. No associated funerary objects are present.

The land in Ballard County, KY, from which the Native American human remains were removed, is the aboriginal land of The Chickasaw Nation.

In August 1955, human remains representing, at minimum, five individuals were removed from near a highway cut near Pineville, Bell County, KY, by Dr. James S. Golden, Jr. In 1959, these adult human remains were gifted to the American Museum of Natural History. No known individuals were identified. The associated funerary objects consist of one lot of fragmentary animal bones.

The land in Bell County, KY, from which the Native American human remains were removed, is the aboriginal land of the Cherokee Nation; Eastern Band of Cherokee Indians; and the United Keetoowah Band of Cherokee Indians in Oklahoma.

In an unknown year, human remains representing, at minimum, two individuals were removed from Tennessee by an unknown collector (possibly J.P. Jones). In an unknown year, the American Museum of Natural History acquired these remains from an unknown donor. No known individuals were identified. No associated funerary objects are present.

The land in the state of Tennessee from which the Native American human remains were removed is the aboriginal land of the Cherokee Nation; Eastern Band of Cherokee Indians; The Chickasaw Nation; and the United Keetoowah Band of Cherokee Indians in Oklahoma.

In 1879, human remains representing, at minimum, one individual were removed from the bank of the Duck River, Hickman County, TN, by James Terry. In 1891, the American Museum of Natural History purchased these human remains from James Terry. No known individual was identified. No associated funerary objects are present.

The land in Hickman County, TN, from which the Native American human remains were removed is the aboriginal land of the Cherokee Nation; Eastern Band of Cherokee Indians; The Chickasaw Nation; and the United Keetoowah Band of Cherokee Indians in Oklahoma.

In an unknown year, human remains representing, at minimum, one individual were removed from the Knoxville vicinity, Knox County, TN, by an unknown collector. In 1877, the American Museum of Natural History acquired these human remains as a gift or purchase from C.C. Jones. No known individual was identified. No associated funerary objects are present.

The land in Knox County, TN, from which the Native American human remains were removed is the aboriginal land of the Cherokee Nation; Eastern Band of Cherokee Indians; and the United Keetoowah Band of Cherokee Indians in Oklahoma.

In 1932, human remains representing, at minimum, one individual were removed from Wilson Mound, 5 miles east of Rockwood, Roane County, TN, by Carl Clausen and Dr. Nels C. Nelson. In 1932, Carl Clausen and Dr. Nels C. Nelson gifted these human remains to the American Museum of Natural History. No known individual was identified. No associated funerary objects are present.

The land in Roane County, TN, from which the Native American human remains were removed is the aboriginal land of the Cherokee Nation; Eastern Band of Cherokee Indians; and the United Keetoowah Band of Cherokee Indians in Oklahoma.

In 1932, human remains representing, at minimum, three individuals were removed from Bowman Mound, 6 miles east of Rockwood, Hoods Ferry, Roane County, TN, by Carl Clausen and Dr. Nels C. Nelson. In 1932, Carl Clausen and Dr. Nels C. Nelson gifted these human remains to the American Museum of Natural History. No known individuals were identified. No associated funerary objects are present.

The land in Roane County, TN, from which the Native American human remains were removed is the aboriginal land of the Cherokee Nation; Eastern Band of Cherokee Indians; and the United Keetoowah Band of Cherokee Indians in Oklahoma.

In 1879, human remains representing, at minimum, seven individuals were removed from Brentwood, Williamson County, TN, by James Terry. In 1891, the American Museum of Natural History purchased these human remains from James Terry. No known individuals were identified. No associated funerary objects are present.

The land in Williamson County, TN, from which the Native American human remains were removed is the aboriginal land of the Cherokee Nation; Eastern Band of Cherokee Indians; and the United Keetoowah Band of Cherokee Indians in Oklahoma.

Determinations Made by the American Museum of Natural History

Officials of the American Museum of Natural History have determined that:

• Pursuant to 25 U.S.C. 3001(9), the human remains described in this notice are Native American based primarily on the donor's collecting history and archeological context.

• Pursuant to 25 U.S.C. 3001(9), the human remains described in this notice represent the physical remains of 22 individuals of Native American ancestry.

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the Native American human remains and any present-day Indian Tribe.

• According to final judgments of the Indian Claims Commission or the Court of Federal Claims, Treaties, Acts of Congress, or Executive Orders, the land in Georgia from which the Native American human remains and associated funerary objects were removed is the aboriginal land of the Alabama-Coushatta Tribe of Texas (previously listed as the Alabama-Coushatta Tribes of Texas); Alabama-Quassarte Tribal Town; Cherokee Nation; Coushatta Tribe of Louisiana; Eastern Band of Cherokee Indians; Kialegee Tribal Town; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the United Keetoowah Band of Cherokee Indians in Oklahoma.

• Pursuant to 43 CFR 10.11(c)(1), the disposition of the human remains from Georgia may be to the Alabama-Coushatta Tribe of Texas (previously listed as the Alabama-Coushatta Tribes of Texas); Alabama-Quassarte Tribal Town; Cherokee Nation; Coushatta Tribe of Louisiana; Eastern Band of Cherokee Indians; Kialegee Tribal Town; Poarch Band of Creeks (previously listed as the Poarch Band of Creek Indians of Alabama); Seminole Tribe of Florida (previously listed as the Seminole Tribe of Florida (Dania, Big Cypress, Brighton, Hollywood & Tampa Reservations)); The Muscogee (Creek) Nation; The Seminole Nation of Oklahoma; Thlopthlocco Tribal Town; and the United Keetoowah Band of Cherokee Indians in Oklahoma.

• According to final judgments of the Indian Claims Commission or the Court of Federal Claims, treaties, Acts of Congress, or Executive Orders, the land in Ballard County, KY, from which the Native American human remains and associated funerary objects were removed is the aboriginal land of The Chickasaw Nation.

• Pursuant to 43 CFR 10.11(c)(1), the disposition of the human remains from Ballard County, KY, may be to the aboriginal land of The Chickasaw Nation.

• According to final judgments of the Indian Claims Commission or the Court of Federal Claims, treaties, Acts of Congress, or Executive Orders, the land in Georgia from which the Native American human remains were removed is the aboriginal land of the Cherokee Nation; Eastern Band of Cherokee Indians; The Chickasaw Nation; and the United Keetoowah Band of Cherokee Indians in Oklahoma.

• Pursuant to 43 CFR 10.11(c)(1), the disposition of the human remains from Tennessee may be to the Cherokee Nation; Eastern Band of Cherokee Indians; The Chickasaw Nation; and the United Keetoowah Band of Cherokee Indians in Oklahoma.

• According to final judgments of the Indian Claims Commission or the Court of Federal Claims, treaties, Acts of Congress, or Executive Orders, the land in Hickman County, TN, from which the Native American human remains were removed is the aboriginal land of the Cherokee Nation; Eastern Band of Cherokee Indians; The Chickasaw Nation; and the United Keetoowah Band of Cherokee Indians in Oklahoma.

• Pursuant to 43 CFR 10.11(c)(1), the disposition of the human remains from Hickman County, TN, may be to the Cherokee Nation; Eastern Band of Cherokee Indians; The Chickasaw Nation; and the United Keetoowah Band of Cherokee Indians in Oklahoma.

• According to final judgments of the Indian Claims Commission or the Court of Federal Claims, treaties, Acts of Congress, or Executive Orders, the land in Bell County, KY, and Knox, Roane, and Williamson Counties, TN, from which the Native American human remains were removed is the aboriginal land of the Cherokee Nation; Eastern Band of Cherokee Indians; and the United Keetoowah Band of Cherokee Indians in Oklahoma.

• Pursuant to 43 CFR 10.11(c)(1), the disposition of the human remains from Bell County, KY, and Knox, Roane, and Williamson Counties, TN, may be to the Cherokee Nation; Eastern Band of Cherokee Indians; and the United Keetoowah Band of Cherokee Indians in Oklahoma.

Additional Requestors and Disposition

Representatives of any Indian Tribe or Native Hawaiian organization not identified in this notice that wish to request transfer of control of these human remains and associated funerary objects should submit a written request with information in support of the request to Nell Murphy, Director of Cultural Resources, American Museum of Natural History, Central Park West at 79th Street, NY, NY 10024, telephone 212-769-5837, email nmurphy@amnh.org, by October 10, 2018. After that date, if no additional requestors have come forward, transfer of control of the human remains and associated funerary objects to the Alabama-Coushatta Tribe of Texas (previously listed as the Alabama-Coushatta Tribes of Texas); Alabama-Quassarte Tribal Town; Cherokee Nation; Coushatta Tribe of Louisiana; Eastern Band of Cherokee Indians; Kialegee Tribal Town; Poarch Band of Creeks (previously listed as the Poarch Band of Creek Indians of Alabama); Seminole Tribe of Florida (previously listed as the Seminole Tribe of Florida (Dania, Big Cypress, Brighton, Hollywood & Tampa Reservations)); The Chickasaw Nation; The Muscogee (Creek) Nation; The Seminole Nation of Oklahoma; Thlopthlocco Tribal Town; and the United Keetoowah Band of Cherokee Indians in Oklahoma may proceed.

The American Museum of Natural History is responsible for notifying The Consulted and Notified Tribes that this notice has been published.

Dated: August 3, 2018.
Melanie O'Brien,
Manager, National NAGPRA Program.

[FR Doc. 2018-19532 Filed 9-7-18; 8:45 am]

BILLING CODE 4312-52-P